DEPARTMENT OF ENERGY

Federal Energy Regulatory Commission

Combined Notice of Filings #2

Take notice that the Commission received the following electric corporate filings:

Docket Numbers: EC14-122-000.

Applicants: Dempsey Ridge Wind Farm, LLC, EcoGrove Wind, LLC, Red Hills Wind Project, L.L.C., Acciona Wind Energy USA LLC, Nevada Solar One, LLC, Tatanka Wind Power, LLC.

Description: Application under Section 203 of the FPA of Dempsey Ridge Wind Farm, LLC, et al.

Filed Date: 8/1/14.

Accession Number: 20140801-5127.

Comments Due: 5 p.m. ET 8/22/14.

Take notice that the Commission received the following electric rate filings:

Docket Numbers: ER10-2134-006; ER10-2127-008.

Applicants: Hardee Power Partners Limited, Invenergy TN LLC.

Description: Category 1 Seller Filing for the Southeast region of Hardee Power Partners Limited and Invenergy TN LLC.

Filed Date: 8/1/14.

Accession Number: 20140801-5124.

Comments Due: 5 p.m. ET 8/22/14.

Docket Numbers: ER13-1748-003.

Applicants: Southwest Power Pool, Inc.

Description: Amendment to Order 755 Compliance Filing—ER13-1748 to be effective 3/1/2015.

Filed Date: 8/1/14.

Accession Number: 20140801-5084.

Comments Due: 5 p.m. ET 8/22/14.

Docket Numbers: ER14-1656-002.

Applicants: CSOLAR IV West, LLC.

Description: Notification of Change In Status of CSOLAR IV West, LLC.

Filed Date: 8/1/14.

Accession Number: 20140801-5098.

Comments Due: 5 p.m. ET 8/22/14.

Docket Numbers: ER14-2138-001.

Applicants: Limon Wind III, LLC.

Description: Amendment to Limon Wind III, LLC Application for Market-Based Rate Authority to be effective 7/15/2014.

Filed Date: 8/1/14.

Accession Number: 20140801-5140.

Comments Due: 5 p.m. ET 8/22/14.

Docket Numbers: ER14-2343-001.

Applicants: Florida Power & Light Company.

Description: FPL and Seminole Electric Cooperative, Inc. Supplement to TSA No. 162 to be effective 7/2/2014.

Filed Date: 8/1/14.

Accession Number: 20140801-5144.

Comments Due: 5 p.m. ET 8/22/14.

Docket Numbers: ER14-2563-000.

Applicants: Tucson Electric Power Company.

Description: Order No. 792 Compliance Filing to be effective 8/4/2014.

Filed Date: 8/1/14.

Accession Number: 20140801-5061.

Comments Due: 5 p.m. ET 8/22/14.

Docket Numbers: ER14-2564-000.

Applicants: UNS Electric, Inc.

Description: Order No. 792 Compliance Filing to be effective 8/4/2014.

Filed Date: 8/1/14.

Accession Number: 20140801-5063.

Comments Due: 5 p.m. ET 8/22/14.

Docket Numbers: ER14-2565-000.

Applicants: Public Service Company of New Mexico.

Description: OATT Order No. 792 Compliance Filing to be effective 8/1/2014.

Filed Date: 8/1/14.

Accession Number: 20140801-5066.

Comments Due: 5 p.m. ET 8/22/14.

Docket Numbers: ER14-2566-000.

Applicants: Midcontinent Independent System Operator, Inc.

Description: 2014-08-01 ELMP True-Up Filing to be effective 10/1/2014.

Filed Date: 8/1/14.

Accession Number: 20140801-5067.

Comments Due: 5 p.m. ET 8/22/14.

Docket Numbers: ER14-2567-000.

Applicants: Public Service Company of Colorado.

Description: 20140801 Burlington PPA Revision to be effective 10/1/2014.

Filed Date: 8/1/14.

Accession Number: 20140801-5073.

Comments Due: 5 p.m. ET 8/22/14.

Docket Numbers: ER14-2568-000.

Applicants: Arizona Public Service Company.

Description: OATT Modification Pursuant to Order No. 792 to be effective 10/3/2014.

Filed Date: 8/1/14.

Accession Number: 20140801-5097.

Comments Due: 5 p.m. ET 8/22/14.

Docket Numbers: ER14-2569-000.

Applicants: Alabama Power Company.

Description: Attachment J-2 (SGIP/SGIA)—Order No. 792 Compliance Filing to be effective 8/1/2014.

Filed Date: 8/1/14.

Accession Number: 20140801-5099.

Comments Due: 5 p.m. ET 8/22/14.

Docket Numbers: ER14-2570-000.

Applicants: Southwest Power Pool, Inc.

Description: Order 792 Small Generator Interconnection Compliance Filing to be effective 8/1/2014.

Filed Date: 8/1/14.

Accession Number: 20140801-5136.

Comments Due: 5 p.m. ET 8/22/14.

Docket Numbers: ER14-2571-000.

Applicants: Idaho Power Company.

Description: Attachment G—Network Operating Agreement to be effective 10/1/2014.

Filed Date: 8/1/14.

Accession Number: 20140801-5139.

Comments Due: 5 p.m. ET 8/22/14.

Docket Numbers: ER14-2572-000.

Applicants: Arizona Public Service Company.

Description: Rate Schedule No. 217—Exhibit B.CAG Rev. 2 and Exhibit B.RVL Rev. 4 to be effective 10/1/2014.

Filed Date: 8/1/14.

Accession Number: 20140801-5153.

Comments Due: 5 p.m. ET 8/22/14.

Docket Numbers: ER14-2573-000.

Applicants: New York Independent System Operator, Inc.

Description: NYISO/NYTO joint compliance filing re: FERC Order No. 792 SGIA and SGIP to be effective 12/31/9998.

Filed Date: 8/1/14.

Accession Number: 20140801-5157.

Comments Due: 5 p.m. ET 8/22/14.

Docket Numbers: ER14-2574-000.

Applicants: California Independent System Operator Corporation.

Description: 2014-08-01 FRAC-MOO to be effective 11/1/2014.

Filed Date: 8/1/14.

Accession Number: 20140801-5158.

Comments Due: 5 p.m. ET 8/22/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 1, 2014.
Nathaniel J. Davis, Sr.,
Deputy Secretary.

[FR Doc. 2014-18814 Filed 8-7-14; 8:45 am]

BILLING CODE 6717-01-P